DEPARTMENT OF JUSTICE

[OMB Number 1117-0010]

Agency Information Collection Activities; Proposed eCollection eComments Requested; Extension of a Previously Approved Collection; U.S. Official Order Forms for Schedules I and II Controlled Substances DEA Form 222

AGENCY: Drug Enforcement Administration, Department of Justice.

ACTION: 60-Day notice.

SUMMARY: The Department of Justice (DOJ), Drug Enforcement Administration, will be submitting the following information collection request to the Office of Management and Budget (OMB) for review and approval in accordance with the Paperwork Reduction Act of 1995.

DATES: Comments are encouraged and will be accepted for 60 days until August 29, 2023.

FOR FURTHER INFORMATION CONTACT: If you have additional comments especially on the estimated public burden or associated response time, suggestions, or need a copy of the proposed information collection instrument with instructions or additional information, please contact Courtney E. Mallon, Office of Diversion Control, Drug Enforcement Administration; Mailing Address: 8701 Morrissette Drive, Springfield, Virginia 22152; telephone: (202) 598-6812.

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Abstract: The Controlled Substances Act (CSA) (21 U.S.C. 801-971) establishes a closed system of distribution for controlled substances. To this end, controlled substances are closely monitored and tightly regulated as they are distributed through the supply chain. One tool that helps to maintain the closed system of distribution is the CSA provision that states it “shall be unlawful for any person to distribute a controlled substance in schedules I or II to another except in pursuance of a written order of the person to whom such substance is distributed, made on a form to be issued by the Attorney General in blank in accordance with subsection (d) of this section.” 21 U.S.C. 828(a).

Overview of This Information Collection

1. Type of Information Collection: Extension of a previously approved collection.

2. The Title of the Form/Collection: U.S. Official Order Forms for Schedules I and II Controlled Substances.

3. The agency form number, if any, and the applicable component of the Department sponsoring the collection: DEA Form: 222. The applicable component within the Department of Justice is the Drug Enforcement Administration, Office of Diversion Control.

4. Affected public who will be asked or required to respond, as well as the obligation to respond: Affected Public: State, local and Tribal governments, private sector—businesses or not-for-profit institutions, Federal Government. The obligation to respond is mandatory per 21 CFR 1305.

5. An estimate of the total number of respondents and the amount of time estimated for an average respondent to respond: The DEA estimates that 125,435 registrants participate in this information collection, taking an estimated average of 0.19 hours per registrant annually.

6. An estimate of the total annual burden (in hours) associated with the collection: DEA estimates the total public burden (in hours) associated with this collection to be 1,030,000 annual burden hours.

7. An estimate of the total annual cost burden associated with the collection, if applicable: $130,350.

Total Burden Hours
Activity | Number of respondents | Frequency | Total annual responses | Time per response | Total annual burden (hours)
DEA-222 (paper and online) | 125,435 | As needed, 42.651573/annually (calculated) | 5,350,000 | 0.1925234 hour (calculated) | 1,030,000
Unduplicated Totals | 125,435 |  | 5,350,000 |  | 1,030,000

If additional information is required contact: John R. Carlson, Department Clearance Officer, United States Department of Justice, Justice Management Division, Policy and Planning Staff, Two Constitution Square, 145 N Street NE, 4W-218, Washington, DC.

Dated: June 26, 2023.
John Carlson,
Department Clearance Officer for PRA, U.S. Department of Justice.

[FR Doc. 2023-13933 Filed 6-29-23; 8:45 am]

BILLING CODE 4410-09-P